DEPARTMENT OF HEALTH AND HUMAN SERVICES

Centers for Disease Control and Prevention

[60Day-25-0706; Docket No. CDC-2024-0081]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Program of Cancer Registries Program Evaluation Instrument (NPCR-PEI). The NPCR-PEI is a web-based survey instrument designed to evaluate NPCR-funded registries' operational attributes and their progress towards meeting program standards.

DATES: CDC must receive written comments on or before December 20, 2024.

ADDRESSES: You may submit comments, identified by Docket No. CDC-2024-0081 by either of the following methods:

☐ Federal eRulemaking Portal: www.regulations.gov. Follow the instructions for submitting comments.

☐ Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Program of Cancer Registries Program Evaluation Instrument (NPCR-PEI) (OMB Control No. 0920-0706, Exp. 01/31/2025)—Revision—National Center for Chronic Disease Prevention and Health Promotion (NCCDPHP), Centers for Disease Control and Prevention (CDC).

Background and Brief Description

CDC is responsible for administering and monitoring the National Program of Cancer Registries (NPCR). The NPCR provides technical assistance and funding and sets program standards to assure that complete local, state, regional, and national cancer incidence data are available for national and state cancer control and prevention activities and health planning activities. The Program Evaluation Instrument (PEI) has been used for 31 years to monitor the performance of NPCR grantees in meeting the required Program Standards. CDC currently supports 50 population-based central cancer registries (CCR) in 46 states, two territories, the District of Columbia, and the Pacific Islands. The National Cancer Institute supports the operations of CCRs in the four remaining states.

The NCPR-PEI includes questions about the following categories of registry operations: (1) Staffing; (2) legislation; (3) administration; (4) reporting completeness; (5) data exchange; (6) data content and format; (7) data quality assurance; (8) data use; (9) collaborative relationships; (10) advanced activities; and (11) survey feedback. Examples of information that can be obtained from various questions include, but are not limited to: (1) number of filled staff full-time positions by position responsibility; (2) revision to cancer reporting legislation; (3) various data quality control activities; (4) data collection activities as they relate to achieving NPCR program standards for data completeness; and (5) whether registry data is being used for comprehensive cancer control programs, needs assessment/program planning, clinical studies, or incidence and mortality estimates.

The NPCR-PEI is needed to receive, process, evaluate, aggregate, and disseminate NPCR program information. The information is used by CDC and the NPCR-funded registries to monitor progress toward meeting established program standards, goals, and objectives; to evaluate various attributes of the registries funded by NPCR; and to respond to data inquiries made by CDC and other agencies of the federal government.

The current burden estimate is based on 50 NPCR awardees. A new project period begins July 1, 2025. If the number of awardees changes, then a change request will be submitted to accurately reflect the burden hours. CDC requests OMB approval for an estimated 132 annual burden hours. There are no costs to respondents other than their time.

Estimated Annualized Burden Hours
Type of respondents | Form name | Number of respondents | Number of responses per respondent | Average burden per response (in hours) | Total burden (in hours)
NPCR Awardees | PEI (Online) | 30 | 1 | 4 | 120
NPCR Awardees | PEI (Paper) | 3 | 1 | 4 | 12
Total |  |  |  |  | 132

Jeffrey M. Zirger,
Lead, Information Collection Review Office, Office of Public Health Ethics and Regulation, Office of Science, Centers for Disease Control and Prevention.

[FR Doc. 2024-24306 Filed 10-18-24; 8:45 am]

BILLING CODE 4163-18-P